ENVIRONMENTAL PROTECTION AGENCY

[FRL-7159-4]

Office of Emergency and Remedial Response Availability of Superfund Annual Report to Congress; Progress Toward Implementing Superfund Fiscal Year 1998

AGENCY: Environmental Protection Agency (EPA).

ACTION: Notice of availability.

SUMMARY: This document announces the availability of the Agency's Progress Toward Implementing Superfund: Fiscal Year 1998, which is required by section 301(h) of the Comprehensive Environmental Response, Compensation, and Liability Act of 1980 (CERCLA), as amended by the Superfund Amendments and Reauthorization Act of 1986. The Report to Congress contains information on overall progress, and includes the following categories of information specifically required by section 301(h) of CERCLA: Feasibility studies, remedial and enforcement actions; an evaluation of newly developed and feasible permanent treatment technologies; progress in reducing the number of facilities subject to review under section 121(c) of CERCLA; and an estimate of resources needed by the Federal Government to complete CERCLA's implementation. The Report also includes information required by section 105(f) of CERCLA about the participation of minority firms in Superfund contracting; and the EPA Inspector General audit report required by section 301(h)(3) of CERCLA.

ADDRESSES: Published copies of the Report may be purchased by the public from the National Technical Information Service (NTIS) at 5285 Port Royal Road, Springfield, VA, 22161 (call 703-487-4650). Electronic copies of the Report may be downloaded from EPA's Web site, http://www.epa.gov/superfnd/oerr/accomp/index.htm#reptocong.

FOR FURTHER INFORMATION CONTACT: David Reynolds, Office of Emergency and Remedial Response (5204G), U.S. Environmental Protection Agency, 401 M Street, SW., Washington, DC 20460 or 703-603-9026 or reynolds.david@epa.gov.

Dated: March 7, 2002.
Michael H. Shapiro,
Deputy Assistant Administrator, Office of Solid Waste and Emergency Response.

[FR Doc. 02-6274 Filed 3-14-02; 8:45 am]

BILLING CODE 6560-50-P